DEPARTMENT OF TRANSPORTATION

Surface Transportation Board

[STB Finance Docket No. 34307]

State of New Hampshire Department of Transportation—Acquisition and Operation Exemption—Certain Assets of Maine Central Railroad Company

The State of New Hampshire, Department of Transportation (the State), has filed a verified notice of exemption under 49 CFR 1150.31 to acquire from the Maine Central Railroad Company a 8.36-mile portion of a line of railroad extending between milepost P-103.20 in Whitefield, in Coos County, NH, and milepost 111.56 in Gilman, in Essex County, VT (the Line).

According to the State, the Lamoille Valley Railroad Company (LVRC) and the Twin State Railroad Corporation (TSR) currently lease the Line, but have not provided service over it since October 1999. The State claims that LVRC and TRS have not maintained the Line in anticipation of providing service or in compliance with applicable laws. The State will acquire the Line subject to LVRC and TSR retaining their operating rights on it, but the State will likely seek to obtain a new operator to perform common carrier service on the Line.

Consummation of this transaction was scheduled to occur on or after December 30, 2002.

If the notice contains false or misleading information, the exemption is void ab initio. Petitions to revoke the exemption under 49 U.S.C. 10502(d) may be filed at any time. The filing of a petition to revoke will not automatically stay the transaction.

An original and 10 copies of all pleadings, referring to STB Finance Docket No. 34307, must be filed with the Surface Transportation Board, 1925 K Street, NW, Washington, DC 20423-0001. In addition, a copy of each pleading must be served on Craig S. Donais, Esquire, Transportation & Construction Bureau, New Hampshire Department of Justice, Office of the Attorney General, 33 Capitol Street, Concord, NH 03301-6397.

Board decisions and notices are available on our Web site at “http://www.stb.dot.gov.”

Decided: January 15, 2003.
By the Board, David M. Konschnik, Director, Office of Proceedings.
Vernon A. Williams,
Secretary.

[FR Doc. 03-1337 Filed 1-21-03; 8:45 am]

BILLING CODE 4915-00-P